DEPARTMENT OF HEALTH AND HUMAN SERVICES

Administration for Children and Families

Proposed Information Collection Activity; Comment Request

Title: Preventing and Addressing Intimate Violence When Engaging Dads.

OMB Number: New Collection.

Description: The Administration for Children and Families (ACF), Office of Planning, Research, and Evaluation (OPRE) proposes to collect information as part of the Preventing and Addressing Intimate Violence when Engaging Dads (PAIVED) study. Since 2006, the Healthy Marriage and Responsible Fatherhood (HMRF) initiative has funded programs that play a key role in helping the Office of Family Assistance (OFA) achieve its goals to foster economically secure households and communities for the well-being and long-term success of children and families. The purpose of the PAIVED study is to better understand the prevalence of intimate partner violence (IPV) experienced by the population of fathers served by Responsible Fatherhood (RF) programs, and the services that federally-funded RF programs are providing to address and contribute to the prevention of IPV among its participants. The proposed data collection will include whether IPV content is included in RF programs, the types of activities they are using to address IPV, and related successes and challenges. Other collected data will include barriers to addressing IPV in RF programs, the relevance of addressing IPV with fathers, fathers' reactions to this programming, and what types of partnerships RF programs have with other agencies to address IPV. This information will be collected through interviews conducted over the phone and in-person with RF grantee program staff and community partners. This information will be critical to inform future efforts to address and contribute to the prevention of IPV through RF programming.

Respondents: Responsible Fatherhood grantee program staff (e.g., program directors and facilitators) and community partners.

Annual Burden Estimates
Instrument | Total/annual number of respondents | Number of responses per respondent | Average burden hours per response | Annual burden hours
RF grantee/community partner screening and participant recruitment | 37 | 1 | 1 | 37
RF grantee program staff semi-structured interview | 23 | 1 | 1.5 | 35
Community partner semi-structured interview | 10 | 1 | 1.5 | 15

Estimated Total Annual Burden Hours: 87.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research, and Evaluation, 330 C Street SW, Washington, DC 20201, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary Jones,
ACF/OPRE Certifying Officer.

[FR Doc. 2018-02476 Filed 2-7-18; 8:45 am]

BILLING CODE 4184-73-P